SMALL BUSINESS ADMINISTRATION

[Declaration of Disaster #3366]

Commonwealth of Virginia

As a result of the President's major disaster declaration on September 21, 2001, I find that Arlington County in the Commonwealth of Virginia constitutes a disaster area due to damages caused by explosions and fires occurring on September 11, 2001. Applications for loans for physical damage as a result of this disaster may be filed until the close of business on November 21, 2001 and for economic injury until the close of business on June 21, 2002 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Fairfax County and the Independent City of Alexandria in the Commonwealth of Virginia; the District of Columbia; and Montgomery County in the State of Maryland.

The interest rates are:

| Percent
For Physical Damage:
Homeowners With Credit Available Elsewhere | 6.750
Homeowners Without Credit Available Elsewhere | 3.375
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 336604. For economic injury the number is 9M8300 for Virginia; 9M8400 for the District of Columbia; and 9M8500 for Maryland.

(Catalog of Federal Domestic Assistance Program Nos. 59002 and 59008)
Dated: September 24, 2001.
Herbert L. Mitchell,
Associate Administrator For Disaster Assistance.

[FR Doc. 01-24402 Filed 9-27-01; 8:45 am]

BILLING CODE 8025-01-P